ENVIRONMENTAL PROTECTION AGENCY

[FRL-9321-1]

Recent Posting to the Applicability Determination Index (ADI) Database System of Agency Applicability Determinations, Alternative Monitoring Decisions, and Regulatory Interpretations Pertaining to Standards Under the Clean Air Act

AGENCY: Environmental Protection Agency (EPA).

ACTION: Notice of Availability.

SUMMARY: This notice announces applicability determinations, alternative monitoring decisions, and regulatory interpretations that EPA has made under the New Source Performance Standards (NSPS); the National Emission Standards for Hazardous Air Pollutants (NESHAP); and the Stratospheric Ozone Protection Program.

FOR FURTHER INFORMATION CONTACT: An electronic copy of each complete document posted on the Applicability Determination Index (ADI) database system is available on the Internet through the Office of Enforcement and Compliance Assurance (OECA) Web site at: http://www.epa.gov/compliance/monitoring/programs/caa/adi.html. The document may be located by control number, date, author, subpart, or subject search. For questions about the ADI or this notice, contact Maria Malave at EPA by phone at: (202) 564-7027, or by e-mail at: malave.maria@epa.gov. For technical questions about the individual applicability determinations or monitoring decisions, refer to the contact person identified in the individual documents, or in the absence of a contact person, refer to the author of the document.

SUPPLEMENTARY INFORMATION:

Background

The General Provisions to the NSPS in 40 Code of Federal Regulations (CFR) Part 60 and the General Provisions to the NESHAP in 40 CFR part 61 provide that a source owner or operator may request a determination of whether certain intended actions constitute the commencement of construction, reconstruction, or modification. EPA's written responses to these inquiries are commonly referred to as applicability determinations. See 40 CFR 60.5 and 61.06. Although the part 63 NESHAP [which includes Maximum Achievable Control Technology (MACT) standards] and section 111(d) of the Clean Air Act (CAA) regulations contain no specific regulatory provision that sources may request applicability determinations, EPA responds to written inquiries regarding applicability for the part 63 and section 111(d) programs as well. The NSPS and NESHAP also allow sources to seek permission to use monitoring or recordkeeping that are different from the promulgated requirements. See 40 CFR 60.13(i), 61.14(g), 63.8(b)(1), 63.8(f), and 63.10(f). EPA's written responses to these inquiries are commonly referred to as alternative monitoring decisions. Furthermore, EPA responds to written inquiries about the broad range of NSPS and NESHAP regulatory requirements as they pertain to a whole source category. These inquiries may pertain, for example, to the type of sources to which the regulation applies, or to the testing, monitoring, recordkeeping, or reporting requirements contained in the regulation. EPA's written responses to these inquiries are commonly referred to as regulatory interpretations.

EPA currently compiles EPA-issued NSPS and NESHAP applicability determinations, alternative monitoring decisions, and regulatory interpretations, and posts them on the ADI on a quarterly basis. In addition, the ADI contains EPA-issued responses to requests pursuant to the stratospheric ozone regulations, contained in 40 CFR part 82. The ADI is an electronic index on the Internet with over one thousand EPA letters and memoranda pertaining to the applicability, monitoring, recordkeeping, and reporting requirements of the NSPS, NESHAP, and stratospheric ozone regulations. The letters and memoranda may be searched by date, office of issuance, subpart, citation, control number, or by string word searches.

Today's notice comprises a summary of 47 such documents added to the ADI on May 25, 2011. The subject and header of each letter and memorandum are listed in this notice, as well as a brief abstract of the letter or memorandum. Complete copies of these documents may be obtained from the ADI through the OECA Web site at: http://www.epa.gov/compliance/monitoring/programs/caa/adi.html

Summary of Headers and Abstracts

The following table identifies the database control number for each document posted on the ADI database system on May 25, 2011; the applicable category; the subpart(s) of 40 CFR part 60, 61, or 63 (as applicable) covered by the document; and the title of the document, which provides a brief description of the subject matter. We have also included an abstract of each document identified with its control number after the table. These abstracts are provided solely to alert the public to possible items of interest and are not intended as substitutes for the full text of the documents. This notice does not change the status of any document with respect to whether it is “of nationwide scope or effect” for purposes of section 307(b)(1) of the Clean Air Act. For example, this notice does not make an applicability determination for a particular source into a nationwide rule. Neither does it purport to make any document that was previously non-binding into a binding document.

ADI Determinations Uploaded on April x, 2011
Control number | Categories | Subparts | Title
M090044 | MACT | A, RRR | Alternate Operating Scenarios for Production Furnace
1000001 | NSPS | VVV | Installation of a Pigment Mixing and Milling Process
1000002 | MACT, NSPS | AAAA, WWW | Gas Treatment System Used for Energy Recovery Purposes
1000003 | NSPS | WWW | Monitoring Lids of Gas Well Sumps as `Surface' of the Landfill
M100001 | MACT | EEEE | Once In Always In Policy
M100002 | MACT | MMMM | Use of Non-Regenerative Carbon Adsorption System
M100004 | MACT | NNNNN | Alternative Control Device Operating Parameters
M100005 | MACT | FFFF, JJJ | Solid State Polymerization PET Process
M100006 | MACT | EEE | Excess Emissions Reporting for a Waste Liquid Fuel-Fired Boiler
1000004 | NSPS | A, Db | Boiler Modification
1000007 | NSPS | Y | Alternative Monitoring
1000008 | NSPS | WWW | Landfill Gas Treatment System
M100009 | MACT | M | Secondary Carbon Adsorption Requirements for Resold Equipment
1000009 | NSPS | WWW | Landfill Gas Operating Temperatures
M100010 | MACT | EEE | Minimum Secondary Combustion Chamber Temperature Operating Parameter Limit
1000011 | NSPS | CCCC | Thermal Destruction Unit Determination
M100012 | MACT | JJ | Relocation of Facility and Reduction of Emissions after NESHAP Compliance Date
1000012 | NSPS | Dc, IIII | Alternative Method for Fuel Supplier Certification
1000013 | NSPS | G, H | Use of Method 7E at Nitric Acid Plants and Method 6C at Sulfuric Acid Plants
1000015 | NSPS | KKKK | Commence Construction for Gas Turbine
1000016 | NSPS | GG, KKKK | Commence Construction for Gas Turbine
1000017 | NSPS | A, AAa | Installation of a Capacitor Bank and Tuned Reactor
1000019 | NSPS | AAAA | Conversion of Post-Sorted Municipal Solid Waste Feedstock
M100014 | MACT | R | Alternative Monitoring Plan
M100015 | MACT | EEE | Alternative Monitoring Plan
M100016 | MACT | EEE | Modification of Alternative Monitoring Plan
M100017 | MACT | EEE | Modification of Alternative Monitoring Plan
M100018 | MACT | GGG | Alternative Monitoring of Hydrochloric Acid (HCl) Bubbler Control Device
1000021 | NSPS | Kb | External Floating Roof Tank Enclosed with Fixed Roof
1000022 | NSPS | WWW | Amended Design Capacity Reports
A100001 | Asbestos | M | Removal of Asbestos Containing Coating Materials from Stator Bars
M100019 | MACT | EEEEE | Cold Core Machines Used for Capture and Wet Acid Scrubbers
1000023 | NSPS | KKKK | Installation of Combustion Turbines and Direct-Fired Heaters
1000024 | NSPS | Ja | Mining of Naturally Occurring Oil Sands and Extraction of Bitumen
M100020 | MACT | EEE | Alternative Monitoring Plan
M100021 | MACT | RRR | Alternative Monitoring Plan
M100022 | MACT | EEE | Comprehensive Performance Test Plan
1000025 | NSPS | A, NNN, RRR | Alternative Monitoring Plan
M100023 | MACT | PPPPP | Appropriate Method for Calculating Reconstruction
M100024 | MACT | RRR | Startup, Shutdown, Malfunction Reporting Requirements
1000026 | NSPS | Kb | Alternative Monitoring Plan
Z100001 | NESHAP | FF | Sour Water Streams Regulation
M100025 | MACT | EEE | Alternative Operating Parameters
M100026 | MACT | EEE | Modification of Alternative Monitoring Plan
M100027 | MACT | EEE | Alternative Monitoring Plan
M100028 | MACT | EEE | Modification of Alternative Monitoring Plan
A110001 | NESHAP | M | Asbestos NESHAP: Municipalities demolishing and renovating multiple residential structures as part of an “urban renewal” project.

Abstracts

Abstract for [M090044]

Q1: Does 40 CFR part 63, subpart RRR, allow Kaiser Aluminum Fabricated Products, Inc., the owner/operator of a secondary aluminum production furnace, to switch back and forth between group 1 and group 2 furnace operation at a regular or even infrequent basis, depending on what its being fed to the furnace at any given time, and turn the control device on and off depending on the operating scenario?

A1: No. MACT subpart RRR does not allow for the furnace to be designated group 1 and 2 at the same time, depending on what it's being feed to the furnace. However, the owner/operator may choose to re-designate a furnace on a very infrequent basis along with a permit modification.

Q2: Does 40 CFR part 63, subpart RRR, allow an owner/operator to operate the furnace as a group 1 furnace, accepting an undefined mix of clean and purchased scrap and a fluxing agent, with the baghouse not operating?

A2: No. A group 1 furnace cannot be authorized to operate under more than one set of operating parameters depending on what is being fed to the furnace at any given time and the use of a control device or not. MACT subpart RRR addresses a single worst-case scenario when conducting a performance test to establish operating parameters, and does not address alternate operating scenarios.

Abstract for [1000001]

Q1: Are two mixing vessels and two milling machines being installed at the Majilite facility in Dracut, Massachusetts, considered coating mix preparation equipment under 40 CFR part 60, subpart VVV?

A1: Because Majilite's mixing vessels will be blending solvent with other materials to prepare pigments that are used to prepare polymeric coatings, the pigment mixing vessels are coating mix preparation equipment subject to NSPS subpart VVV. The milling machines, however, do not fit within the rule definition of coating mix preparation equipment.

Q2: Majilite operates one coating line subject to NSPS, subpart VVV, and that this coating line and coating mix operation use more than 130 Mg of VOC per year. What are the requirements under 40 CFR part 60, subpart VVV, for the coating mix preparation equipment if the pigment mixing vessels are being installed without concurrent construction of a control device?

A2: EPA has determined that because Majilite's subpart VVV coating operation and associated coating mix preparation equipment use at least 130 Mg of VOC per 12-month period and the pigment mixing vessels are being installed without concurrent construction of a control device, Majilite must meet the requirements of 60.742(c)(2) for its pigment mixing vessels, among other requirements.

Abstract for [1000002]

Q: Do the processes which occur in the preliminary treatment system at Waste Management of New Hampshire's (WMNH) Turnkey Recycling and Environmental Enterprise (TREE) facility in Rochester, New Hampshire, meet the requirements for a “treatment system” under 40 CFR 60.752(b)(2)(iii)(C)?

A: Yes. EPA has determined that the preliminary treatment system located at WMNH in which the gas has been compressed, dewatered, and filtered down to 10 microns meets the criteria of a treatment system under 40 CFR 60.752(b)(2)(iii)(C), and is not subject to the monitoring and recordkeeping requirements of 40 CFR 60.756(b) and 40 CFR 60.758(b) and (c).

Abstract for [1000003]

Q: Does EPA approve the request of Allied Imperial Landfill in Imperial, Pennsylvania to monitor some landfill gas well sump structure lids as though they were the “surface” of the landfill, in accordance with 40 CFR part 60, subpart WWW?

A: Yes. EPA finds that monitoring the sump lids is adequate to fulfill the requirements of NSPS subpart WWWW based on the intent of NSPS subpart WWW and the sump structure construction. Monitoring inside the sump structure could create an artificially elevated value for the landfill gas well(s). If a landfill gas extraction well (LGFW) monitoring event indicates readings above 500 ppm around the circumference of the fiberglass structure, and/or lid of the structure, then corrective actions must be completed, as required by NSPS subpart WWW.

Abstract for [M100001]

Q: The Pactiv facility located in Winchester, Virginia, must comply with 40 CFR part 63, subpart EEEE, the organic liquid distribution (OLD) MACT, due to a hazardous air pollutant (HAP) in a foaming agent used at the facility. Were the facility to switch the foaming agent to one that uses less than 5 percent HAPS would the OLD MACT apply?

A: Yes. The new foaming agent still contains HAPs, and according to the “Once in Always In” Policy, the OLD MACT still applies.

Abstract for [M100002]

Q: Does EPA approve the use of a non-regenerative carbon adsorption system as the control technology under 40 CFR part 63, subpart MMMM, for the metal parts coating operations of East Penn Manufacturing in Lyon Station, Pennsylvania?

A: Yes. EPA approves this request based on the conditions set forth in this letter, and provided that the request does not relieve East Penn of any other requirements of MACT subpart MMMM.

Abstract for [M100004]

Q: Does EPA approve alternative operating parameters under 40 CFR part 63, subpart NNNNN, for the Irgafos V-47 caustic scrubber at the Ciba Corporation facility in McIntosh, Alabama?

A: No. EPA cannot approve the requested alternatives without evaluating the performance test data that is collected using these proposed alternative parameters which needs to be submitted by Ciba Corporation to demonstrate compliance with the applicable emission limit set out in Table 1 of MACT subpart NNNNN.

Abstract for [M100005]

Q: Is the polyethylene terephthalate (PET) solid state polymerization (SSP) process at the DAK Americas facility in Cooper River, South Carolina, subject to 40 CFR part 63, subpart FFFF?

A: Yes. The SSP process is a miscellaneous organic chemical manufacturing process unit (MCPU) which manufactures a product, PET, which is described by the North American Industry Classification System 325. In doing so, it, generates a hazardous air pollutant (HAP), acetaldehyde. The MCPU is located at a major source of HAP. Thus, the SSP process satisfies all of the conditions for applicability under MACT subpart FFFF, specifically 40 CFR 63.2435 (a) and (b)(1) through (3).

Abstract for [M100006]

Q: Does EPA waive excess emissions reporting requirements under 40 CFR part 63, subpart EEE, for a waste liquid fuel-fired boiler system (WFBS) at the Diversified Scientific Services facility in Kingston, Tennessee, if the unit is equipped with an automatic fuel cutoff?

A: No. EPA does not waive the excess emissions reporting requirements of MACT subpart EEE even when the WFBS has safe guards that minimizes emissions because there remain numerous reportable situations involving continuous monitoring system devices, such as opacity monitors, thermocouples, pressure transducers, and flow meters, that could malfunction and that should be included in the required report.

Abstract for [1000004]

Q1: Is the exemption in section 60.14(e)(4) of the General Provisions applicable to Power Boiler No. 6, at Rayonier Performance Fibers, in Fernandina Beach, Florida, even though the emission rate of nitrogen oxide (NOX) will increase, such that it will cause the boiler to not become subject to NSPS subpart Db, Standards of Performance for Industrial-Commercial-Institutional Steam Generating?

A1: Yes. Even though there will be an increase in the NOX emission rate, the operational or physical changes made at the facility are not considered modifications under 40 CFR 60.14(e) of the General Provisions. Thus, the changes did not subject the Power Boiler No. 6 to NSPS subpart Db.

Q2: An interpretation of the reference in 40 CFR 60.14(e)(4) to the “facility's construction specifications” is requested for Power Boiler No. 6. The boiler was purchased by Rayonier as a traveling grate boiler and was later converted to a bubbling fluidized bed boiler.

A2: The exemption in 40 CFR 60.14(e)(4) relates to the construction specifications prior to the date a standard becomes applicable to a source category. Because the applicability date for 40 CFR part 60, subpart Db, is June 18, 1984, 40 CFR 60.14(e)(4) relates to the construction specifications for Power Boiler No. 6 prior to that date.

Abstract for [1000007]

Q: Does EPA grant the request of Detroit Edison's River Rouge Power Plant in River Rouge, Michigan, to eliminate the requirement for temperature monitors on the gas stream exits of the thermal dryers?

A. No. Continuous temperature monitoring, as required in 40 CFR 60.256(a) (1), indicates compliance status with respect to the carbon monoxide (CO) limits. The temperature record ensures the source temperature correlates with the results of performance tests or other emissions tests. Monitoring temperature is essential because improperly tuned operations at off-design levels decrease combustion efficiency resulting in increased CO emissions. Additionally, Detroit Edison has not requested an alternative form of monitoring (see 60 CFR 60.13(i)), but rather the elimination of the monitoring requirements. EPA is unable to grant this request because the Region does not have authority to amend NSPS subpart Y.

Abstract for [1000008]

Q: Does the landfill gas treatment system proposed by the City of Midland, Michigan, meet the requirements that allow the landfill gas to be exempt from control requirements per 40 CFR 60.752(b)(2)(iii)(C) when burned in internal combustion engines? A: Yes. Because the proposed landfill gas treatment system will use 10-micron filtration and sufficient dewatering, it meets the current requirements used by EPA for gas “treatment” and is therefore exempt from the requirements of 40 CFR 60.752(b)(2)(iii)(C).

Abstract for [M100009]

Q: Is dry cleaning equipment that was initially installed prior to December 21, 2005, but was removed from its original location, sold to a new owner, and relocated subsequent to December 21, 2005, subject to the area source, non-residential carbon adsorption requirements at 40 CFR 63.322(o)(2)?

A: Yes. Reselling and relocating dry cleaning equipment constitutes installation of a dry cleaning system. Therefore dry cleaning equipment that is resold and relocated would be subject to the secondary carbon adsorption requirements of 40 CFR 63.322(o)(2).

Abstract for [1000009]

Q: Does EPA approve higher landfill gas temperatures under 40 CFR 60.753(c) for specific extraction and leachate wells at Veolia's Glacier Ridge Landfill near Horicon, Wisconsin?

A: Yes. Because the proposed operating limit of 148 degrees Fahrenheit is properly supported by data that shows there would be a minimal risk of a landfill fire or significantly inhibited anaerobic decomposition, EPA approves the higher landfill gas temperatures under 40 CFR 60.753(c).

Abstract for [M100010]

Q: Does EPA approve a request to waive the minimum secondary combustion chamber temperature operating parameter limit under 40 CFR part 63, subpart EEE, for the Heritage-WTI (WTI) facility in East Liverpool, Ohio?

A: No. EPA concludes that the rotary kiln and the secondary combustion chamber (SCC) are separate combustion chambers and thus does not approve the request under MACT subpart EEE. WTI cannot legitimately argue that the SCC at its facility does not contain a steady-state, or near steady-state, process wherein fuel, hazardous waste, and oxidizer (i.e., pure oxygen or ambient air) feed rates are controlled, since the SCC is engineered to allow WTI to feed pure oxygen or ambient air into the SCC to improve combustion. EPA concludes that the SCC is an area in which controlled flame combustion of hazardous waste occurs. Therefore, EPA disapproves WTI's request in its original and revised comprehensive performance test plans to determine that the Rotary Kiln and the SCC are one combustion chamber and to eliminate the need for a minimum combustion chamber temperature operating parameter limit.

Abstract for [1000011]

Q: Does 40 CFR part 60, subpart CCCC, apply to the thermal destruction unit operated by PIKA International in Calhoun County, Arkansas?

A: Yes. NSPS subpart CCCC applies because the waste that is burned (1) Is a RCRA solid waste, but not a RCRA hazardous waste; (2) meets the definition of a commercial solid waste; and (3) is not eligible for any exemptions under NSPS subpart CCCC. In addition, NSPS subpart CCCC applies as a result of the date construction began on the incinerator.

Abstract for [M100012]

Q: If Riceland Cabinet's (Riceland) facility in Orville, Ohio, which is subject to 40 CFR part 63, subpart JJ, relocates its facility and reduces its emission to area source status thresholds after the NESHAP compliance date, does it remain subject to the MACT subpart JJ and Title V Permitting requirements?

A: Yes. The relocated facility would be considered an existing source under MACT subpart JJ. The relocated facility would also be required to obtain a Title V Permit. The “Once In Always In” Policy (OIAI Policy) allows new sources the option to comply with federally enforceable limits after the compliance date in order to not be subject to the NESHAP. However, a relocated facility cannot be defined as a new source for the purposes of the NESHAP. To be considered a new source, a source would have to be constructed after the compliance date; however, relocating a facility is not construction according to NESHAP definition of construction. Construction is defined as the on-site fabrication, erection, or installation of an affected source. Construction does not include the removal of all equipment comprising an affected source from an existing location and reinstallation of such equipment at a new location. Any source that is not a new source is defined as an existing source.

Abstract for [1000012]

Q: Does EPA approve the use of alternative method ASTM D975-07b for fuel certification under 40 CFR part 60, subpart Dc, in lieu of ASTM D396 for Quest Diagnostics in Chantilly, Virginia?

A: Yes. ASTM D975-07b is more stringent than ASTM D396 in all cases except viscosity, which will not affect sulfur dioxide emissions, and thus is acceptable under NSPS subpart Dc.

Abstract for [1000013]

Q1: Is Method 7E an allowable alternative test method for measuring nitrogen oxide (NOx) emissions at nitric acid plants for the purposes of determining compliance with 40 CFR part 60, subpart G?

A1: No. Method 7E is not approved for use to demonstrate compliance with NSPS subpart G.

Q2: Is Method 6C an allowable alternative test method for measuring sulfur dioxide (SO2) emissions at sulfuric acid plants for the purposes of determining compliance with 40 CFR part 60, subpart H?

A2: No. Method 6C is not approved for use to demonstrate compliance with NSPS subpart H.

Abstract for [1000015]

Q: Will EPA reconsider its February 8, 2006 determination that 40 CFR part 60, subpart KKKK, applies to a turbine at Great River Energy in Cambridge, Minnesota?

A: No. The request does not provide any new information that would cause the Agency to reconsider the February 8, 2006 determination that NSPS subpart KKKK applies.

Abstract for [1000016]

Q: Did construction commence on the proposed installation of a gas turbine at Great River Energy (GRE) in Cambridge, Minnesota, before the applicability date of 40 CFR part 60, subpart KKKK?

A: No. GRE did not begin installation of the turbine nor enter into a contractual obligation to undertake and complete within a reasonable time a continuous program of construction for the installation of the turbine prior to the applicability date of 40 CFR part 60, subpart KKKK.

Abstract for [1000017]

Q1: Is the installation of a capacitor bank and tuned reactor at the electrical substation servicing an electric arc furnace (EAF) at the Alton Steel, Inc. facility, a physical or operational change to an existing EAF under 40 CFR 60.14 of the General Provisions?

A1: Yes. The capacitor/reactor project increased the capacity (i.e., the production rate) of the existing EAF and is therefore an operational change to the EAF under 40 CFR 60.14, which resulted in a kilogram per hour increase in the emission rate of particulate matter.

Q2: Is the capacitor/reactor project exempt from the definition of “modification” because it is “routine maintenance, repair, or replacement” under 40 CFR 60.14(e)(1)?

A2: No. The capacitor/reactor project was not routine maintenance, repair, or replacement under 40 CFR 60.14(e)(1).

Q3: Is the capacitor/reactor project not subject to 40 CFR part 60, subpart AAa because it is not considered “modification” based on the capital expenditure exemption at 40 CFR 60.14(e)(2)?

A3: Yes. The capacitor/reactor project allowed the EAF to increase the rate of production but involved no capital expenditure on the “existing facility” (i.e., the EAF as it is defined at 40 CFR 60.271(a)). All of the monetary expenditure associated with the project involved replacing components and adding new components to the electrical substation that supplies power to the EAF. Because the capital expenditure exemption at 40 CFR 60.14(e)(2) applies, the capacitor/reactor project has not triggered the applicability of NSPS subpart AAa.

Abstract for [1000019]

Q1: Does 40 CFR part 60, subpart AAAA, apply to the syngas gasification process at Fulcrum BioEnergy's (Fulcrum) proposed facility in McCarran, Nevada?

A1: No. Because Fulcrum's proposed syngas gasification process is neither combustion nor pyrolysis, the syngas generation unit is not considered a “pyrolysis/combustion unit” or “municipal waste combustion unit” as defined in NSPS subpart AAAA.

Q2: Does 40 CFR part 60, subpart AAAA, apply to the combined cycle combustion turbine if the facility meets the requirements for the small power production facility exemption or the cogeneration facility exemption?

A2: No. 40 CFR 60.1020(b) and (c) list the requirements that a facility must meet to be exempt from NSPS subpart AAAA as a small power production facility or cogeneration facility. Those requirements include meeting criteria established by the Federal Power Act, combusting homogeneous waste, and providing notification and documentation to EPA. EPA concurs with Fulcrum's assessment that the gasified waste would be considered homogeneous. However, to qualify for either of the facility exemptions Fulcrum would also need to provide appropriate notification and documentation that it meets the criteria established by the Federal Power Act.

Q3: Does 40 CFR part 60, subpart AAAA, apply to the air pollution control flare?

A3: No. As long as the flare is operated solely as an air pollution control device, it is excluded from the definition of “municipal waste combustion unit” under NSPS subpart AAAA.

Abstract for [M100014]

Q: Does EPA approve NuStar Logistics (“NuStar”) request for alternative monitoring of emissions under 40 CFR part 63, subpart R, of continuous presence of a pilot flame for the vapor combustion unit (VCU) in lieu of temperature monitoring at the firebox at its bulk gasoline terminal in Colorado Springs, Colorado?

A: EPA does not approved NuStar alternative monitoring request because it does not demonstrate meeting the requirements of 40 CFR 63.8(f)(4), 63.427(a)(5), and 63.428(c)(3)). Additional information needs to be provided within 30 calendars days after receipt of this letter. [Additional information was not provided.]

Abstract for [M100015]

Q: Does EPA approve the request of the Tooele Chemical Agent Disposal Facility (TOCDF) in Stockton, Utah, to waive the requirement to establish, and subsequently monitor, at the Deactivation Furnace System (DFS), a 12-hour rolling average (HRA) feed rate for mercury, ash, semi- and low-volatile metals, and chlorine required by 40 CFR 63.1290(l), (m), (n), and (o), respectively?

A: EPA conditionally approves TOCDF's request to waive the requirement to establish, and subsequently monitor, at the DFS, a 12-HRA feed rate for mercury, ash, semi- and low-volatile metals, and chlorine required by 40 CFR 63.1290(l), (m), (n), and (o), respectively. EPA's approval is limited to when burster and fuze pairs from 4.2″ HD mortars, HT mortars, and minimal amounts of process generated waste such as agent contaminated rags and small metal parts are fed to the DFS. Additionally, EPA's approval is based on a feed rate to the DFS of combined 4.2″ mortar burster/fuze pairs of 274/hour, as well as the RCRA Permit limits for process generated waste, and TOCDF's commitment to monitor and comply with those limits.

Abstract for [M100016]

Q: Does EPA approve the request of the Tooele Chemical Agent Disposal Facility (TOCDF) located in Stockton, Utah, under 40 CFR part 63, subpart EEE, to modify the first condition of the approved alternative monitoring request (AMR) of April 27, 2006, to also include munitions processing? The first condition states that “this approval shall apply only to the Baseline Processing phase of the TOCDF Mustard campaign which restricts processing to only those ton containers (TCs) in which the level of Hg in the liquid phase is less than 1 ppm”?

A: Yes. EPA approves modifying the scope of the AMP request to include the processing of the above TCs, munitions, and secondary waste. Based on the information provided, EPA believes that TOCDF can process the additional TCs, munitions, and secondary waste and maintain compliance with 40 CFR part 63, subpart EEE standards.

Abstract for [M100017]

Q: Does EPA approve under 40 CFR part 63, subpart EEE, the request of the Tooele Chemical Agent Disposal Facility (TOCDF) in Stockton, Utah, to modify Condition #2 of the alternative monitoring request approved by EPA on June 29, 2009? The condition states among other things, that during the Non-Baseline Processing Phase, the sampling period for the Appendix K System sorbent tube trap sets shall be no greater than 12 hours, and Tooele requests to change “no greater than 12 hours” to “no greater than 12 hours (plus or minus 30 minutes to allow for unforeseen events)”?

A: EPA approves the revision to Condition #2 because TOCDF has confirmed that even though the start or stop time may vary by up to 30 minutes, TOCDF will sample continuously. For those periods where the start or stop time varies by 15 minutes or more, TOCDF will provide a reason code in its reporting to explain why sampling was plus or minus 15 minutes or more. In addition, EPA believes the change in Condition #2 is approvable for the reasons expressed in its June 29, 2009 letter.

Abstract for [M100018]

Q1: Does EPA approve Albemarle Corporation's (Albemarle) alternative monitoring request for its facility in Orangeburg, South Carolina, to measure the liquid temperature in the receiver of its process condensers as described in 40 CFR 63.2460(c)(2)(v) when conducting the process condenser demonstration required by 40 CFR 63.1257(d)(3)(iii)(B)?

A1: Yes. EPA agrees that measuring the liquid temperature of the condensed liquid in the receiver would be an acceptable alternative to measuring the exhaust gas temperature as required by 40 CFR 63.1257(d)(3)(iii)(B) because the temperature of the condensed liquid and the exhaust gas are in equilibrium.

Q2: Does EPA approve Albemarle's alternative recordkeeping request under 40 CFR part 63, subpart GGG, to maintain records of standard and non-standard batch production to allow the calculation of rolling annual emissions on a daily basis to comply with the daily rolling 365-day HAP emissions once per month as required by 40 CFR 63.1259(b)(4)?

A2: Yes. For purposes of compliance with the annual mass limits of 40 CFR 63.1254(a)(2) and (b)(2), Albemarle must calculate and record the daily rolling annual total emissions for the previous month by the fifth day of each month.

Q3: Does EPA approve Albemarle's request for a waiver of the performance test requirements of 40 CFR 63.11(b)(6)(i) for a flare used to control Hydrogen Cyanide (HCN) emissions from the HCN Pharmaceutical Manufacturing Process Unit (PMPU)?

A3: Yes. EPA approves a waiver of the requirement to conduct a performance test to demonstrate compliance with 40 CFR 63.11(b)(6)(i). This waiver is for the same flare being operated under the same conditions for which Albemarle submitted information in 2002 and 2003 to support its request for a waiver of the performance test requirements under 40 CFR 60.18(c)(3)(i). In addition, the regulatory language of 40 CFR.11(b)(6)(i) is identical to that of 40 CFR 60.18(c)(3)(i).

Q4: Does EPA approve Albemarle's setting alternate operating limits for a hydrochloric acid (HCl) bubbler control device to those required by 40 CFR 63.1258(b)(1)(ii) for scrubbers?

A4: EPA conditionally approves the alternate operating parameters pending a successful performance test and other conditions listed in the EPA response letter.

Abstract for [1000021]

Q: Do the requirements for external floating roof tanks (EFR) in 40 CFR 60.112b(a)(2), the requirements for internal floating roof (IFR) tanks in 40 CFR 112b(a)(1) apply, or both, apply to EFR tanks which have been enclosed with a fixed roof located at the TransMontaigne Operating Company LP facility in Selma, North Carolina?

A: An EFR tank which is enclosed by the installation of a fixed roof meets the 40 CFR part 60, subpart Kb description of an IFR tank and is therefore subject to the requirements for IFR tanks. An enclosed EFR tank is no longer subject to the NSPS subpart Kb requirements for EFR tanks.

Abstract for [1000022]

Q1: Is a municipal solid waste landfill that already has a design capacity equal to or greater than 2.5 million megagrams and 2.5 million cubic meters required under 40 CFR part 60, subpart WWW, to submit an amended design capacity report upon approval of a further expansion?

A1: No. The facility is not required to do so as it is subject to the standards 40 CFR 60.752(b), which does not require such reports.

Q2: Is a municipal solid waste landfill that already has a design capacity equal to or greater than 2.5 million megagrams and 2.5 million cubic meters required under 40 CFR part 60, subpart WWW, to submit a notice for a physical or operation change pursuant to 40 CFR 60.7(a)(4) upon approval of a further expansion?

A2: Yes. Under NSPS subpart WWW, the facility is required to do so for all modifications that meet the definition of 40 CFR 60.14.

Abstract for [A100001]

Q1: Does the removal of asbestos containing coating materials from stator bars at a metal recycling facility in Ashtabula, Ohio, constitute an asbestos conversion process subject to 40 CFR 61.155?

A1: No. 40 CFR 61.155 applies to situations where regulated asbestos containing material, and asbestos-containing waste material, is converted to a non-asbestos material. The information provided by the requestor indicates that stator bars coated with an asbestos containing resin and wrapped with tape covered by an asbestos containing tar will be removed from various locations and the bars will be taken to a recycling operation where the asbestos containing resin and tar will be removed from the bars. All of the asbestos that is removed from the stator bars will remain asbestos after it is removed from the bars. The asbestos material that is removed will be disposed of in a landfill. Because the asbestos containing material is not subject to any process or treatment that would convert it to a nonasbestos material, there is no conversion to a non asbestos material taking place.

Q2: Are the notification requirements at 40 CFR 61.145 applicable to the removal of asbestos covered and coated stator bars at the site where they are removed and at the site where the asbestos is stripped from the bars?

A2: At each site where the stator bars are removed, if the surface area (of the bars to be removed) covered with asbestos containing resin and tar equals or exceeds 160 square feet, then the notification requirements of 40 CFR 61.145 apply and a notice must be submitted to the Federal, State or local agency delegated to receive such notifications. Because the stator bars will be stripped of asbestos at a site in Ashtabula, Ohio, a copy of each notification for bars removed outside of Ohio should also be sent to the Ohio Environmental Protection Agency. No matter where the bars are removed, a notification must be in place for each batch of stator bars stripped of asbestos containing materials at the site in Ashtabula, Ohio.

Q3: Which sections of 40 CFR 61.145(c) apply at the site where the stator bars are removed?

A3: Because the stator bars are not going to be stripped of asbestos at the site where they are removed, and because the stator bars are going to be shipped to Ashtabula, Ohio, the bars must be handled in accordance with the requirements of 40 CFR 61.145(c)(5)(i) through (iii).

Abstract for [M100019]

Q: With respect to the operating limits for cold core machines utilizing capture and wet acid scrubbers to control triethylamine (TEA) emissions at the Indianapolis Casting facility in Indianapolis, Indiana: When dampers are manually set in a fixed position, does the exemption from the continuous parameter monitoring system (“CPMS”) requirement apply only to exempting a CPMS with regard to damper position or would a fixed damper position exempt the cold core machine capture system from monitoring the hourly average rate as with respect to 40 CFR 63.7740(a)?

A: 40 CFR 63.7710(b)(2)(i) contains two different requirements (at a minimum) for the capture system: level of ventilation draft and damper position settings. Both types of CPMS are required, but the CPMS for damper system is not needed if the damper position is manually set and in a fixed position. Thus, the CPMS exemption referred to in 40 CFR 63.7740(a)(2) applies solely to the installation of a CPMS for damper position.

Abstract for [1000023]

Q: Does EPA approve a request for alternate performance testing under 40 CFR part 60, subpart KKKK, for combustion turbines and direct-fired heaters being installed as part of a process modification at the PL Propylene facility in Houston, Texas?

A: Yes. EPA has determined that the stationary combustion turbines are subject to the requirements of NSPS subpart KKKK, and has approved the request to conduct one performance test downstream of the selective catalytic reduction units, and to apply reference method results from the NOx continuous monitoring system certification for the initial demonstration of compliance with 40 CFR 60.4320. However, testing must be conducted using the fuel or combination of fuels that would result in the highest emissions.

Abstract for [1000024]

Q. Is the proposed Earth Energy oil sand mine and processing facility in eastern Utah, which will include mining of the naturally occurring oil sands and extraction of the bitumen from these sands, subject to 40 CFR part 60, subpart Ja?

A: No. The Earth Energy facility would not be considered a “petroleum refinery” and thus is not subject to NSPS subpart Ja.

Abstract for [M100020]

Q1: Does EPA approve the Tooele Army Depot's (TEAD's) request to establish a limit on the minimum baghouse inlet temperature to replace the requirement to establish a limit on the maximum baghouse temperature (40 CFR 63.1209(k)(1)(i)) to assure compliance with the dioxin and furan limit in 40 CFR 63.1219(a)(1)?

A1: EPA conditionally approves the use of a minimum baghouse inlet temperature rather than a maximum baghouse inlet temperature during the Comprehensive Performance Test if the baghouse inlet temperature is maintain at the required level, as established in the EPA response letter.

Q2: Does EPA approve TEAD's request to establish a limit on the maximum afterburner outlet temperature to replace the requirement to establish a limit on the maximum baghouse inlet temperature (40 CFR 63.1209(n)(1)) to ensure compliance with the semi-volatile and low volatility metals limits in 40 CFR 63.1219(a)(3) and (4)?

A2: No. EPA cannot approve the request because the temperature range of the inlet to the baghouse can vary so dramatically.

Q3: Does EPA approve TEAD's request to establish the maximum potential particulate matter (PM) generation as a limit to replace the requirement to establish the maximum ash feed rate limit to ensure compliance with 40 CFR 63.1219(a)(7)?

A3: Yes. EPA conditionally approves the request to establish the maximum potential particulate matter (PM) generation as a limit to replace the requirement to establish the maximum ash feed rate limit, provided that (i) The propellants, explosives and pyrotechnics (PEP) feed rate will not exceed 56.28 lb/hr and (ii) the PM generation will not exceed the worst case theoretical maximum based on the PEP feed rate above.

Abstract for [M100021]

Q1: Does EPA approve of the operator of a secondary aluminum continuous caster at the Commonwealth Aluminum Concast (Commonwealth) facility in Uhrichsville, Ohio, weighing the metal by measuring the volume of the slab produced by the continuous caster even if the method does not meet the one percent accuracy requirement at 40 CFR 63.1510(e)?

A1: Yes. Although these accuracies do not meet the one percent accuracy requirement at 40 CFR 63.1510(e), EPA has concluded that on the basis of the information provided the affected source should be able to meet the relevant emission standard.

Q2: May the operator record and report on a 24-hour basis the chlorine injection rate for its in-line fluxers since the chlorine meter is not accurate to one percent for the 15-minute block time period intervals specified in the rule at 40 CFR 63.1510(j)?

A2: No. In this instance, available data indicate that the required one percent accuracy can be achieved on a 16-hour basis. Therefore, EPA determines that there is no basis for extending the averaging period beyond 16 hours.

Q3: May the operator test only one of two identical in-line fluxers to measure particulate matter emissions?

A3: Yes. Because the in-line casters operate in series, the test plan does not contemplate testing of PM emissions from each fluxer individually. For the purposes of compliance calculations, however, the particulate matter is assumed to emit from the tested caster. This would represent a conservative worst-case assumption, and does not require the assumption that an equal amount of particulate matter is emitted from each caster.

Q4: May the operator conduct performance testing for two of the four aluminum melting furnaces?

A4: Yes. EPA approves the testing of two of a total of four of the aluminum melting furnaces if these have the same physical dimensions and capacity, and the operator charges each furnace with the same materials and the same reactive fluxing agents in the same proportions, and this will maintain identical work practices. Also, Commonwealth will perform three test runs for two representative furnaces during a complete operating cycle, which is defined for purposes of this testing as the initial metal charging through the final skim, or about 1.5 hours. In addition, each melting furnace (M1 through M4) has the same physical dimensions and capacity of 233,000 tons, and maximum 21 million Btu/hour heat input natural gas burners. The testing of emissions from M1 will be representative of emissions from M3, and the testing of emissions from M2 will be representative of emissions from M4.

Abstract for [M100022]

Q1: Does EPA approve the revised comprehensive performance test plan (CPT) and continuous monitoring system (CMS) performance evaluation test (PET) plan for Sunoco Chemicals, in Haverhill, Ohio, pursuant to 40 CFR 63.1207(e)(1)(i)(A)?

A1: Yes. EPA approves Sunoco's revised CPT and CMS PET plan under MACT subpart EEE.

Q2: Does the requirement for a one-time dioxin/furan test apply to Boiler UC pursuant to 40 CFR 63.1207(b)(3)(ii) and 63.1207(b)(3)(iii)?

A2: EPA concludes that the requirement for a one-time dioxin/furan test for Boiler UC does not apply until Sunoco resumes generation and incineration of its two hazardous waste feedstreams.

Q3: Does EPA approve Sunoco's PM DIL requests for Boiler UC?

A3: Yes. EPA approves Sunoco's PN DIL requests for Boiler UC.

Q4: Does EPA approve Sunoco's request to use data from a 2006 DRE test on Boiler UC as documentation of conformance with the applicable DRE emission standard for Boiler UC pursuant to 40 CFR 63.1207(c)(2)?

A4: Yes. EPA approves Sunoco's request to use data from a 2006 DRE test on Boiler UC as documentation of conformance with the applicable DRE emission standard for Boiler UC.

Q5: Does EPA approve Sunoco's request to use data from a November 2001 DRE test on Boiler UE as documentation of conformance with the applicable DRE emission standard for Boiler UE pursuant to 40 CFR 63.1207(c)(2)?

A5: Yes. EPA approves Sunoco's request to use data from a November 2001 DRE test on Boiler UE as documentation of conformance with the applicable DRE emission standard for Boiler UE pursuant to 40 CFR 63.1207(c)(2).

Q6: Does EPA approve a maximum theoretical emission concentration request for Boiler UC and Boiler UE pursuant to 40 CFR 63.7(h) and 63.1207(m)?

A6: Yes. EPA approves a maximum theoretical emission concentration request for Boiler UC and Boiler UE pursuant to 40 CFR 63.7(h) and 63.1207(m).

Abstract for [1000025]

Q1: Are the flow monitoring procedures under 40 CFR part 60, subpart RRR, an acceptable alternative to the 40 CFR part 60, subpart NNN, requirements for the distillation operation at Flint Hills' facility in Saint Paul, Minnesota?

A1: Yes. EPA finds that in this instance the NSPS subpart RRR flow monitoring procedures are an acceptable alternative to those under NSPS subpart NNN. The NSPS subpart RRR requirement to monitor diversions from the control device accomplishes the same result (i.e., providing a record of when vent streams are not controlled) as the NSPS subpart NNN requirement to monitor the flow to the control device.

Q2: Does EPA approve the use of certain monitoring, recordkeeping, and reporting provisions under 40 CFR part 60, subpart RRR, as alternative monitoring requirements to those under 40 CFR part 60, subpart NNN, for the Flint Hills' facility in Saint Paul, Minnesota?

A2: Yes. EPA approves the use of the provisions in NSPS subpart RRR as an alternative means of demonstrating compliance under NSPS subpart NNN for the specified distillation unit. As conditions of approval, the facility must comply with the recordkeeping and reporting requirements for flow indicators in NSPS subpart RRR and must maintain a schematic diagram for all related affected vent streams, collection system(s), fuel systems, control devices, and bypass systems as stated in 40 CFR 60.705(s).

Q3: Does EPA approve a waiver of initial performance tests for certain boilers and heaters at the Flint Hills' facility in Saint Paul, Minnesota?

A3: Yes. Pursuant to 40 CFR 60.8(b)(4), EPA conditionally approves the performance test waiver for the boilers and process heaters which are fired with fuel gas containing a vent stream from the Poly Unit De-Propanizer (43V-5), Saturates Gas De-Propanizer (43V-19), and Alky Unit De-Propanizer (35V-2). This waiver is applicable for boilers and process heaters that meet the definitions of a boiler or process heater in 40 CFR 60.701. Both the alternative monitoring and the waiver of performance testing are contingent upon the vent streams being vented to a fuel gas system and introduced into the flame zone with the primary fuel.

Q4: Does EPA approve Flint Hills' request for alternate flare reporting required by 40 CFR 60.665(l)(4), Subpart NNN?

A4: Yes. EPA approves Flint Hills Resources' (FHR's) request to comply with the reporting requirements on the status of the pilot flame in 40 CFR 63.654(g)(6)(i)(B) of Subpart RRR in lieu of the flare requirements in 40 CFR 60.665(l)(4) of Subpart NNN, based on approval of the AMP request.

Abstract for [M100023]

Q: What is considered a comparable new source under 40 CFR Part 63, Subpart PPPPP, when determining if reconstruction has occurred under 40 CFR 3.2 of the General Provisions at John Deere's engine testing facility in Dubuque, Iowa?

A: While the regulations do not define “comparable new source,” it is clear within context of the paragraph (see 63.2, reconstruction definition) that the term stands for “a newly reconstructed existing facility.” EPA has determined that the addition of the new test cells equipment to a facility, as defined in 40 CFR part 63, Subpart PPPPP, does not automatically trigger new source MACT requirements, unless the definition of reconstruction as listed in 40 CFR 63.2 is met. Based on the information provided, EPA has determined that for the John Deere Facility the cost of new equipment is not more than 50 percent of the cost to construct a comparable new facility. Therefore, the definition of reconstruction would not be met and new source MACT requirements were not triggered. The percent cost of installation should be calculated by dividing the cost of new components (i.e., new test cell equipment) by the cost of a newly reconstructed existing facility (i.e., cost of existing test cells and existing equipment) to determine if the cost criterion in the definition of reconstruction at 40 CFR 63.2 is met.

Abstract for [M100024]

Q1: How does the vacatur of the startup, shutdown, and malfunction (SSM) exemption provisions of 40 CFR part 63, subpart A, impact the reporting requirements of 40 CFR part 63, subpart RRR?

A1: In general, the SSM vacatur should have no impact on the reporting requirements in MACT subpart RRR.

Q2: If a monitoring malfunction occurs that does not cause excess emissions, is it a reportable occurrence?

A2: Yes, all malfunctions are required to be reported regardless of the resulting emissions.

Abstract for [1000026]

Q: Does EPA approve the request of the Enbridge Energy facility in Superior, Wisconsin, to perform an internal inspection under 40 CFR part 60, subpart Kb, on the internal floating roofs (IFR) tanks while they are in-service and out-of-service?

A: Yes. Enbridge Energy may perform an internal inspection by visually inspecting the IFR components from the top of the IFR using inspection procedures that are similar to those found in 40 CFR 63.1063(d)(1) and 40 CFR part 63, subpart WW. The proposed alternative monitoring procedure, based on 40 CFR part 63, subpart WW, would serve to satisfy the requirements of 40 CFR 60.113b(a)(4).

Abstract for [Z100001]

Q: Are sour water streams managed in sour water strippers regulated upstream of the sour water stripper exit under 40 CFR part 61, subpart FF?

A: Yes. Assuming that the total annual benzene quantity from facility waste is 10 Mg/year or greater, as provided by 40 CFR 61.342(b), the facility must comply with the requirements of 40 CFR 61.342 (c)-(h). Thus, these requirements would apply to sour water streams managed upstream of the sour water stripper exit.

Abstract for [M100025]

Q: Does EPA approve the request of Ross Incineration Services in Grafton, Ohio, for the hazardous waste incinerator operator to use alternate operating parameters in lieu of flow rate measurements for the scrubbers to avoid automatic waste feed cutoffs should a flow meter fail pursuant to 40 CFR part 63 subpart EEE?

A: Yes. EPA conditionally approves this request based upon the review of the data submitted showing that the alternate operating parameters, specifically, scrubber temperatures, water pump current, and nozzle pressure, can be measured and maintained within a normal operating range, thereby assuring the performance of scrubber water pumps. The approval is contingent upon the ability of the facility to continuously maintain the scrubber flow rates for the radial-flow scrubber (RFS) and the gas-liquid contactor (GLC).

Abstract for [M100026]

Q: Does EPA approve the request of the Tooele Chemical Agent Disposal Facility (TOCDF) in Stockton, Utah, to modify conditions of the alternative monitoring request (AMR) approved by EPA on June 29, 2009, pursuant to 40 CFR part 63, subpart EEE, with regards to the use of a thermal desorption mercury analyzer and mercury sampling timeframes?

A: Yes, EPA approves revisions to applicable conditions of the June 26, 2009 AMR approval. All conditions of approval are restated in the current AMR approval.

Abstract for [M100027]

Q: Does EPA approve the request of the Tooele Chemical Agent Disposal Facility (TOCDF) in Stockton, Utah, to comply with the mercury emission standard (130 micrograms/dscm, corrected to 7 percent oxygen) at the Metal Parts Furnace (MPF) by: 1) continuously collecting exhaust gas samples and sampling for mercury (Hg) and taking the rolling average of the results obtained from three consecutive 4-hour sampling events, resulting in a 12-hour averaging period for compliance determination purposes, rather than relying on an operating parameter limit (OPL) for a maximum Hg feedrate as required by 40 CFR 63.1209(l)(1)(i); and (2) continuously sampling exhaust gas samples using a modified EPA method approved for use by coal-fired power plants found at 40 CFR Part 75, Appendix K rather than using Method 29 for Hg emissions, as required by 40 CFR 63.1208(b)(2)?

A: Yes. EPA conditionally approves the request provided that the facility meets all of the conditions set out in the EPA response letter.

Abstract for [M100028]

Q: Does EPA approve the request of the Tooele Chemical Agent Disposal Facility (TOCDF) in Stockton, Utah, to modify some of the Conditions of Approval contained in determination letters issued by EPA on April 27, 2006 and September 24, 2007 approving previously submitted alternative monitoring requests (AMRs) pertaining to the Manual Mercury (Hg) Emission Measurement method used during the Mustard Agent Processing in TOCDF's Metal Parts Furnace (MPF), and to add the Manual Hg Emission Measurement method on the Liquid Incinerators (LICs)?

A: Yes. EPA conditionally approves the request, provided that the facility meets all of the conditions set out in the EPA response letter.

Abstract for [A110001]

Q1: If a city, county, municipality undertakes an “urban renewal” project that demolishes or renovates multiple single family homes, is it subject to the asbestos NESHAP regulation, NESHAP subpart M?

A1: It may be subject to the asbestos NESHAP. The city, county or municipality may be the owner or operator, depending upon the situation. As the owner or operator, the government entity must conduct a thorough inspection of each home that is identified to be demolished or renovated for the project. If the combined amount of friable asbestos or asbestos that will be made friable during the demolition or renovation operation exceeds the regulated threshold, then the demolition or renovation operation must comply with the air emission, the waste management, and the disposal requirement of the asbestos NESHAP.

Q2: Are single family homes not subject to the asbestos NESHAP based on the 1995 Clarification of Intent which described how isolated single family homes were exempt from the asbestos NESHAP?

A2: As stated in the question, the Clarification of Intent describes how to determine an isolated single family home. The “urban renewal” projects are not about isolated homes but a group of homes as part of a project that will be demolished or renovated over a period of time. In the preamble to the 1990 asbestos NESHAP amendments, EPA did not consider residential structures that are demolished as part of a commercial or public project to be exempt from this rule.

Q3: What is or please define “planning period?”

A3: Planning period is not defined in the asbestos NESHAP regulation. Planning period was identified in the 1995 Clarification of Intent to provide guidance when considering single family homes being demolished, and whether the home was considered a facility under the demolition operation. Demolition or renovation operations planned at the same time or as part of the same planning period or scheduling period are considered to be part of the same project, and that in the case of municipalities, a planning or scheduling period is often a fiscal or calendar year or the term of a contract. The fact that demolitions might be spread out over multiple fiscal or calendar years or even multiple contracts, however, does not necessarily mean they are not occurring as part of the same planning period.

Dated: March 10, 2011.
David Hindin,
Acting Director, Office of Compliance.

[FR Doc. 2011-15416 Filed 6-20-11; 8:45 am]

BILLING CODE 6560-50-P